DEPARTMENT OF TRANSPORTATION

Federal Aviation Administration

14 CFR Part 71

[Docket No. FAA-2020-0741; Airspace Docket No. 19-AWP-79]

RIN 2120-AA66

Amendment of Class D and Class E Airspace; Fallon, NV

AGENCY: Federal Aviation Administration (FAA), DOT.

ACTION: Final rule.

SUMMARY: This action modifies Class E airspace at Fallon NAS (Van Voorhis Field) Airport by revoking the Class E airspace designated as an extension to a Class D or Class E surface area. This action also modified the Class E airspace extending upward from 700 feet above the surface. Further, this action modifies the Class E airspace extending upward from 1,200 feet above the surface. Lastly, the action implements numerous administrative amendments to the airspaces' legal descriptions.

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E airspace at Fallon NAS (Van Voorhis Field) Airport, Fallon, NV, to ensure the safety and management of Instrument Flight Rules (IFR) operations at the airport.

History

The FAA published a notice of proposed rulemaking in the Federal Register (85 FR 49983; August 17, 2020) for Docket No. FAA-2020-0741 to modify Class D and Class E at Fallon NAS (Van Voorhis Field) Airport, Fallon, NV. Interested parties were invited to participate in this rulemaking effort by submitting written comments on the proposal to the FAA. No comments were received.

Class D, E2, E4, and E5 airspace designations are published in paragraphs 5000, 6002, 6004, and 6005, respectively, of FAA Order 7400.11E, dated July 21, 2020, and effective September 15, 2020, which is incorporated by reference in 14 CFR 71.1. The Class D and Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to Title 14 Code of Federal Regulations part 71 modifies Class E airspace at Fallon NAS (Van Voorhis Field). The Class E airspace that is designated as an extension to a Class D or Class E surface area is not required and is revoked.

This action also modifies the Class E airspace extending upward from 700 feet above the surface. This area is designed to contain IFR departures to 1,200 feet above the surface and IFR arrivals descending below 1,500 feet above the surface. This airspace area is described as follows: That airspace extending upward from 700 feet above the surface within an 8-mile radius of the airport, and within 2.5 miles each side of the 143° bearing from the airport, extending from the 8-mile radius to 11.5 miles southeast of the airport, and within 2.5 miles each side of the 270° bearing from the airport, extending from the 8-mile radius to 11.5 miles west of the airport, and within 2.5 miles each side of the 327° bearing from the airport, extending from the 8-mile radius to 11.5 miles northwest of Fallon NAS (Van Voorhis Field) Airport.

Further, this action modifies the Class E airspace extending upward from 1,200 feet above the surface. This area is designed to contain IFR aircraft transitioning to/from the terminal and en route environments. This airspace area is described as follows: That airspace extending upward from 1,200 feet above the surface within a 30-mile radius of the Fallon NAS (Van Voorhis Field) Airport.

Lastly, this action implements numerous administrative amendments to the airspaces' legal descriptions. To match the FAA database, the geographic coordinates in the Class D and Class E2 text headers for Fallon NAS (Van Voorhis Field) Airport and Fallon Municipal Airport have been updated. For Fallon NAS (Van Voorhis Field) Airport, the coordinates now read lat. 39°25′04″ N, long. 118°41′55″ W. For Fallon Municipal Airport the coordinates now read lat. 39°29′57″ N, long. 118°44′56″ W. The last two sentences in the Class D and Class E surface area legal descriptions are updated to read: “This Class D (or E, as appropriate) airspace area is effective during the specific dates and times established, in advance, by a Notice to Airmen. The effective date and time will thereafter be continuously published in the Chart Supplement.” For the Class E airspace areas extending upward from 700 feet or more above the surface, the Fallon Navy TACAN, Mustang VORTAC, and all radials and distances from the navigational aids are removed from the text header and the airspace description.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AWP NV D Fallon, NV [Amended]

Fallon NAS (Van Voorhis Field) Airport, NV

(Lat. 39°25′04″ N, long. 118°41′55″ W)

Fallon Municipal Airport, NV

(Lat. 39°29′57″ N, long. 118°44′56″ W)

That airspace extending upward from the surface to and including 6,400 feet MSL within a 5.5-mile radius of Fallon NAS (Van Voorhis Field) Airport, excluding that airspace within a 1-mile radius of Fallon Municipal Airport. This Class D airspace area is effective during the specific dates and times established in advance by a Notice to Airmen. The effective date and time will thereafter be continuously published in the Chart Supplement.

Paragraph 6002 Class E Airspace Areas Designated as a Surface Area.

* * * * *

AWP NV E2 Fallon, NV [Amended]

Fallon NAS (Van Voorhis Field) Airport, NV

(Lat. 39°25′04″ N, long. 118°41′55″ W)

Fallon Municipal Airport, NV

(Lat. 39°29′57″ N, long. 118°44′56″ W)

That airspace extending upward from the surface within a 5.5-mile radius of Fallon NAS (Van Voorhis Field) Airport, excluding that airspace within a 1-mile radius of Fallon Municipal Airport. This Class E airspace area is effective during the specific dates and times established in advance by a Notice to Airmen. The effective date and time will thereafter be continuously published in the Chart Supplement.

Paragraph 6004 Class E Airspace Areas Designated as an Extension to a Class D or Class E Surface Area.

* * * * *

AWP NV E4 Fallon NAS, NV [Revoked]

Fallon NAS (Van Voorhis Field), NV

(Lat. 39°25′00″ N, long. 118°42′04″ W)

Fallon Navy TACAN

(Lat. 39°25′01″ N, long. 118°42′18″ W)

Paragraph 6005 Class E Airspace Areas Extending Upward From 700 Feet or More Above the Surface of the Earth.

* * * * *

AWP NV E5 Fallon, NV [Amended]

Fallon NAS (Van Voorhis Field) Airport, NV

(Lat. 39°25′04″ N, long. 118°41′55″ W)

That airspace extending upward from 700 feet above the surface within an 8-mile radius of the airport, and within 2.5 miles each side of the 143° bearing from the airport, extending from the 8-mile radius to 11.5 miles southeast of the airport, and within 2.5 miles each side of the 270° bearing from the airport, extending from the 8-mile radius to 11.5 miles west of the airport, and within 2.5 miles each side of the 327° bearing from the airport, extending from the 8-mile radius to 11.5 miles northwest of the airport; and that airspace extending upward from 1,200 feet above the surface within a 30-mile radius of the Fallon NAS (Van Voorhis Field) Airport.

Issued in Seattle, Washington, on November 17, 2020.
B.G. Chew,
Acting Group Manager, Operations Support Group, Western Service Center.

[FR Doc. 2020-25727 Filed 11-23-20; 8:45 am]

BILLING CODE 4910-13-P